NUCLEAR REGULATORY COMMISSION

[Docket No. 50-263]

Nuclear Management Company, LLC, Monticello Nuclear Generating Plant; Notice of Availability of the Final Supplement 26 to the Generic Environmental Impact Statement for License Renewal of Nuclear Plants, Regarding the License Renewal of Monticello Nuclear Generating Plant

Notice is hereby given that the U.S. Nuclear Regulatory Commission (NRC, Commission) has published a final plant-specific supplement to the Generic Environmental Impact Statement for License Renewal of Nuclear Plants (GEIS), NUREG-1437, regarding the renewal of operating license DPR-22 for an additional 20 years of operation for the Monticello Nuclear Generating Plant (Monticello). Monticello is located on the southern bank of the Mississippi River in the City of Monticello, Wright County, Minnesota, approximately 30 miles northwest of Minneapolis, Minnesota. Possible alternatives to the proposed action (license renewal) include no action and reasonable alternative energy sources.

As discussed in Section 9.3 of the final Supplement 26, based on: (1) The analysis and findings in the GEIS; (2) the Environmental Report submitted by Nuclear Management Company, LLC; (3) consultation with Federal, State, and local agencies; (4) the staff's own independent review; and (5) the staff's consideration of public comments, the recommendation of the staff is that the Commission determine that the adverse environmental impacts of license renewal for Monticello are not so great that preserving the option of license renewal for energy-planning decisionmakers would be unreasonable.

The final Supplement 26 to the GEIS is publicly available at the NRC Public Document Room (PDR), located at One White Flint North, 11555 Rockville Pike, Rockville, Maryland 20852, or from the NRC's Agencywide Documents Access and Management System (ADAMS). The ADAMS Public Electronic Reading Room is accessible at http://www.nrc.gov/reading-rm/adams/web-based.html. The accession number for the final Supplement 26 to the GEIS is ML062490078. Persons who do not have access to ADAMS, or who encounter problems in accessing the documents located in ADAMS, should contact the NRC's PDR Reference staff by telephone at 1-800-397-4209, or 301-415-4737, or by e-mail at pdr@nrc.gov. In addition, the Monticello Public Library (220 West 6th Street, Monticello, Minnesota 55362) and the Buffalo Public Library (18 Northwest Lake Boulevard, Buffalo, Minnesota 55313), have agreed to make the final supplement available for public inspection.

FOR FURTHER INFORMATION CONTACT: Ms. Jennifer A. Davis, Environmental Branch B, Division of License Renewal, Office of Nuclear Reactor Regulation, U.S. Nuclear Regulatory Commission, Mail Stop O-11F1, Washington, DC 20555-0001. Ms. Davis may be contacted at 1-800-368-5642, extension 3835 or via e-mail at jxd10@nrc.gov.

Dated at Rockville, Maryland, this 19th day of September, 2006.
For the Nuclear Regulatory Commission.
Rani L. Franovich,
Branch Chief, Environmental Branch B, Division of License Renewal, Office of Nuclear Reactor Regulation.

[FR Doc. E6-15786 Filed 9-26-06; 8:45 am]

BILLING CODE 7590-01-P